DEPARTMENT OF COMMERCE

Foreign-Trade Zones Board

[B-31-2022]

Foreign-Trade Zone (FTZ) 222—Birmingham, Alabama; Notification of Proposed Production Activity, Hyundai Motor Manufacturing Alabama, LLC (Passenger Automobiles, Trucks, and Cargo Trucks), Montgomery, Alabama

Hyundai Motor Manufacturing Alabama, LLC (HMMA) submitted a notification of proposed production activity to the FTZ Board (the Board) for its facility in Montgomery, Alabama, within Subzone 222A. The notification conforming to the requirements of the Board's regulations (15 CFR 400.22) was received on July 22, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: passenger, passenger hybrid, and passenger plug-in hybrid automobiles (gasoline and electric motor); and, passenger and cargo trucks (gasoline) (duty rate ranges from 2.5% to 25%).

The proposed foreign-status materials and components include: sealing agents; thermal compounds; plastic components (rear washer hoses; intercooler outlet hoses; labels; seal tape; black tape; anti-chipping film; anti-noise pads; cases for tire mobility kit; plugs; handles; hooks; brackets; caps; clips; covers; retainers; moldings; weather stripping; clips; emblems; retainers; nuts; rivets; spacers); assemblies (plastic water inlet fitting; rubber seal strip; luggage floor mat; car mat complete; mirror; aluminum compressor elbow; sunroof wrench; tailgate and trunk latch; piston and conrod; camshaft bearing cap; camshaft carrier; cylinder head cover; lower crankcase; ladderframe; intake and exhaust manifold; balance shaft; oil jet; oil pan; cylinder and tube; power steering oil pump; window washer reservoir and pump; fuel pump cover, master cylinder and booster; cooler; warmer; jack and hook owner's vehicle maintenance tool; jack; continuous variable valve timing and center bolt; fuel rail; thermostat; inlet and exhaust camshaft; wiper motor and link; inverter unit; battery housings and ventilation; starter; alternator; license plate lamp; luggage lamp; combination lamp; horn; piezo buzzer; back view camera; keyless entry transmitter; resistor; switch; navigation cable; electrical resistance junction box case; side crash pad switch; audio/visual (A/V) tuner unit; A/V video jack; head lamp electronic control unit; door; under cover panel; center facia panel; quarter inner panel; fuel tank; fuel pump cover; roof rack cover; console complete; fender side cover; spare tire well cover; C-pillar garnish; front mud guard; door frame molding; glass molding; sunvisor; luggage floor tray; sliding and tilting sunroof; sunroof sunshade; rear spoiler; cargo screen; panorama roof; drive shaft; wheel hub cap; rear trailing arm; timing chain tensioner; radiator reservoir tank; integrated bracket tensioner; air duct; fuel tank band; manual transmission lever; knob and boot; propeller shaft; cargo screen); covers (vinyl; engine; starter; speaker; junction block; back view camera; outside mirror; sunroof decoration); tire sealant; bolt mounting tape; breather hoses; rubber components (hoses; tubes; pipes; nozzles; belts; license plate supporters; oil seals; gaskets; O-rings; caps; plugs; pads; packaging; bumpers; grommets); owner's manuals; battery insulation pads; steel components (bypass nipples; threaded couplings; heater nipples; tapping screws; bolts; machining screws; studs; nuts; ball studs; spring washers; plain washers; cotter pins; pin dowels; clamps; clips; hangers; gaskets; balls; service cover plates for battery access); springs (rear helical; valve); trunk lid hinge torsion bars; wheel nut wrenches; key sets; hinges; tailgate and hood lifters; metal components (brackets and mountings for vehicles; hook holders for child seat; rivets; VIN labels; gaskets); cylinder heads; mechanical tappets; cylinder blocks; plugs (taper; high voltage; cigar lighter); adapter plates; valve exhaust and inlet seats; piston rings; valve spring retainers; modules (surge tank; turbo manifold; exhaust manifold; exhaust gas recirculation valve; thermal management); water jacket inserts; oil drain cover gaskets; pumps (high pressure; balance shaft and oil; water and oil); tire mobility kits; automotive air conditioner parts; filters (fuel; oil); air cleaners; catalytic converters; washer nozzles; valves (tire check; oil control; solenoid); thermostat housing gaskets; bearing pilots; connecting rod and crankshaft bearings; flywheels; pulleys (damper; water pump); crankshaft sprockets; actuators; lithium-ion components (cell blocks; batteries); rupture disks; units (blind spot detection; electronic control; battery management; battery cell monitor; front view camera; head light auto leveling); key fobs; antennas; condensers; resistors with diodes; sensors (memory seat; crankshaft position; oil and water temperature; oxygen; battery; knock); high voltage battery fuse links; battery fuse links; pyrotechnical switches; relays (power; electrical); contactors; carrier plates; junction boxes, busbars and controllers; occupant passenger detection systems; DC/DC (direct current) convertors; crankshaft position sensor wheel and plate assembly drives; antenna extension feeder cables; wiring harnesses; dosing injector extension wiring; coils and capacitors; vehicle bodies; bumpers; bumper brackets; safety seat belts; windshields; rear windows; windows; door body stampings; panels (fender; cowl and dash; fender apron; rear floor; tailgate inner and outer; hood inner and outer; trunk lid inner and outer); body trim garnishes; roof rails; roof antenna dummies; foot rests; roof assembly moldings; roof pads; transmissions; transmission shift levers; drive axles; road wheels; struts; front shock absorber mounting forks; rear spring upper and lower pads; radiators; mufflers; resonators; exhaust pipes; steering wheels and columns; safety airbags; cable ducts; cooler lines; timing chain guides; heat protectors; oil level gauges; and, cigarette lighter sockets (duty rate ranges from duty-free to 9.0%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is September 14, 2022.

A copy of the notification will be available for public inspection in the “Online FTZ Information System” section of the Board's website.

For further information, contact Juanita Chen at juanita.chen@trade.gov.

Dated: August 2, 2022.
Andrew McGilvray,
Executive Secretary.

[FR Doc. 2022-16850 Filed 8-4-22; 8:45 am]

BILLING CODE 3510-DS-P